Proclamation 8961 of April 19, 2013

National Park Week, 2013

By the President of the United States of America

A Proclamation

For generations, ordinary Americans have taken it upon themselves to preserve our national landscape. They have been public servants and private citizens, patrons and Presidents—visionaries who saw our natural inheritance not as something to be used up, but as a treasure to be passed on. During National Park Week, we celebrate the wonders entrusted to us by our forebears and recommit to preserving them for our children and grandchildren.

We also take time to remember that in places like the Grand Canyon and the Teton Range, we see more than raw beauty. We see expansive freedom and rugged independence. We see the big ideas and bold ingenuity that inspired the first conservationists. We see our belief in collective responsibility—the notion that all of us have an equal share in this land and an equal obligation to keep it safe. These spaces embody the best of the American spirit, and they summon us to experience it firsthand.

This week, the National Park Service will make that opportunity available to everyone by offering free admission to every park in the Union from April 22 through April 26. And to keep building on our country's long legacy of conservation, I have been proud to establish eight new National Monuments in the past year. These sites honor rich histories, spectacular landscapes, and pioneering heroes of the American story, from Colonel Charles Young to Harriet Tubman to Cesar Chavez. They also reflect my commitment to advancing a 21st-century conservation strategy that responds to the priorities of the American people, strengthens local economies, and protects our most special places for generations to come.

As we mark this week, I encourage all Americans to experience our natural heritage by stepping into the outdoors. To find a National Park in your area, visit www.NPS.gov.

NOW, THEREFORE, I, BARACK OBAMA, President of the United States of America, by virtue of the authority vested in me by the Constitution and the laws of the United States, do hereby proclaim April 20 through April 28, 2013, as National Park Week. I encourage all Americans to visit their National Parks and be reminded of these unique blessings we share as a Nation.

IN WITNESS WHEREOF, I have hereunto set my hand this nineteenth day of April, in the year of our Lord two thousand thirteen, and of the Independence of the United States of America the two hundred and thirty-seventh.

[FR Doc. 2013-09869

Filed 4-23-13; 11:15 am]

Billing code 3295-F3